INTERNATIONAL TRADE COMMISSION

[USITC SE-24-031]

Sunshine Act Meetings

Agency Holding the Meeting: United States International Trade Commission.

TIME AND DATE: July 19, 2024 at 11:00 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. Nos. 701-TA-728 and 731-TA-1697 (Preliminary) (Vanillin from China). The Commission currently is scheduled to complete and file its determinations on July 22, 2024; views of the Commission currently are scheduled to be completed and filed on July 29, 2024.

5. Commission vote on Inv. No. 731-TA-1696 (Preliminary) (Large Top-Mount Combination Refrigerator-Freezers from Thailand). The Commission currently is scheduled to complete and file its determination on July 22, 2024; views of the Commission currently are scheduled to be completed and filed on July 29, 2024.

5. Outstanding action jackets: none.

CONTACT PERSON FOR MORE INFORMATION: Sharon Bellamy, Supervisory Hearings and Information Officer, 202-205-2000.

The Commission is holding the meeting under the Government in the Sunshine Act, 5 U.S.C. 552(b). In accordance with Commission policy, subject matter listed above, not disposed of at the scheduled meeting, may be carried over to the agenda of the following meeting.

By order of the Commission.
Issued: July 11, 2024.
Sharon Bellamy,
Supervisory Hearings and Information Officer.

[FR Doc. 2024-15576 Filed 7-11-24; 4:15 pm]

BILLING CODE 7020-02-P